DEPARTMENT OF COMMERCE

International Trade Administration

A-570-928, A-791-821, A-552-803

Postponement of Preliminary Determinations of Antidumping Duty Investigations; Uncovered Innerspring Units from the People's Republic of China, South Africa, and the Socialist Republic of Vietnam

AGENCY: Import Administration, International Trade Administration, Department of Commerce.

EFFECTIVE DATE: May 28, 2008.

FOR FURTHER INFORMATION CONTACT: Erin Begnal at (202) 482-1442 or Scot Fullerton at (202) 482-1386 (People's Republic of China), Office 9; Dmitry Vladimirov at (202) 482-0665 or Minoo Hatten at (202) 482-1690 (South Africa), Office 5; Eugene Degnan at (202) 482-0414 or Robert Bolling at (202) 482-3434 (Socialist Republic of Vietnam), Office 8, AD/CVD Operations, Import Administration, International Trade Administration, U.S. Department of Commerce, 14th Street and Constitution Avenue, NW, Washington, DC 20230.

SUPPLEMENTARY INFORMATION:

Postponement of Preliminary Determinations

On January 28, 2008, the Department of Commerce (the Department) published in the Federal Register the initiation of the antidumping investigations on uncovered innerspring units from the People's Republic of China (PRC), South Africa, and the Socialist Republic of Vietnam (Vietnam). See Uncovered Innerspring Units from the People's Republic of China, South Africa, and the Socialist Republic of Vietnam: Initiation of Antidumping Duty Investigations, 73 FR 4817 (January 28, 2008) (Initiation Notice).

The notice of initiation stated that the Department would issue its preliminary determinations for these investigations no later than 140 days after the date of issuance of the initiation, in accordance with section 733(b)(1)(A) of the Tariff Act of 1930, as amended (the Act).

On May 20, 2008, the petitioner, Leggett & Platt Inc., made a request pursuant to 19 CFR 351.205(b)(2) and (e) for a 50-day postponement of the preliminary determinations.¹ The petitioner requested postponement of the preliminary determinations in order to allow the Department additional time to do a thorough investigation of the respondents in these investigations.

¹ Although the petitioner did not file its request 25 days or more before the scheduled date of the preliminary determination, the Department has determined to accept the request pursuant to its authority under 19 CFR 351.302(b). We find that good cause exists to extend the deadline in order to allow the Department additional time to analyze the questionnaire responses in the investigation of uncovered innerspring units from the PRC. Further, for purposes of administrative efficiency, the Department concludes that the Vietnam, South Africa and PRC cases should remain on a consistent timeline.

For the reason identified by the petitioner and because there are no compelling reasons to deny the request, the Department is postponing the deadline for the preliminary determinations under section 733(c)(1)(A) of the Act by 50 days to July 30, 2008. The deadline for the final determinations will continue to be 75 days after the date of the preliminary determinations, unless extended.

This notice is issued and published pursuant to section 733(c)(2) of the Act and 19 CFR 351.205(f)(1).

Dated: May 21, 2008.
Stephen J. Claeys,
Acting Assistant Secretary for Import Administration.

[FR Doc. E8-11854 Filed 5-27-08; 8:45 am]

BILLING CODE 3510-DS-S